SECURITIES AND EXCHANGE COMMISSION

[Release No. 34-85154; File No. SR-NYSEArca-2018-54]

Self-Regulatory Organizations; NYSE Arca, Inc.; Notice of Withdrawal of a Proposed Rule Change To Amend Commentary .01 to NYSE Arca Rule 8.600-E Relating to Certain Generic Listing Standards for Managed Fund Shares

February 15, 2019.

On July 18, 2018, NYSE Arca, Inc. (“NYSE Arca”) filed with the Securities and Exchange Commission (“Commission”), pursuant to Section 19(b)(1) of the Securities Exchange Act of 1934 (“Act”) ¹ and Rule 19b-4 thereunder,² a proposed rule change to amend certain generic listing standards for Managed Fund Shares. The proposed rule change was published for comment in the Federal Register on August 7, 2018.³ On September 19, 2018, pursuant to Section 19(b)(2) of the Act,⁴ the Commission designated a longer period within which to approve the proposed rule change, disapprove the proposed rule change, or institute proceedings to determine whether to approve or disapprove the proposed rule change.⁵ On November 1, 2018, the Commission instituted proceedings to determine whether to approve or disapprove the proposed rule change.⁶ On February 1, 2019, the Commission designated a longer period for Commission action on the proceedings to determine whether to approve or disapprove the proposed rule change.⁷

¹ 15 U.S.C. 78s(b)(1).

² 17 CFR 240.19b-4.

³ See Securities Exchange Act Release No. 83759 (August 1, 2018), 83 FR 38753.

⁴ 15 U.S.C. 78s(b)(2).

⁵ See Securities Exchange Act Release No. 84195, 83 FR 48474 (September 25, 2018).

⁶ See Securities Exchange Act Release No. 84517, 83 FR 55773 (November 7, 2018).

⁷ See Securities Exchange Act Release No. 85026, 84 FR 2637 (February 7, 2019).

On February 14, 2019, NYSE Arca withdrew the proposed rule change (SR-NYSEArca-2018-54).

For the Commission, by the Division of Trading and Markets, pursuant to delegated authority.⁸
⁸ 17 CFR 200.30-3(a)(12).
Eduardo A. Aleman,
Deputy Secretary.

[FR Doc. 2019-03031 Filed 2-21-19; 8:45 am]

BILLING CODE 8011-01-P